DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the data collection for the Evaluation of the Individual Training Account Experiment (1205-0441, expires October 31, 2006). A copy of the proposed information collection request (ICR) can be obtained by contacting the office listed below in the addressee section of this notice or at this Web site: http://www.doleta.gov/Performance/guidance/OMBControlNumber.cfm.

DATES: Written comments must be submitted to the office listed in the addressee section below on or before September 25, 2006.

ADDRESSES: Janet Javar, Office of Policy Development and Research, Employment and Training Administration, U.S. Department of Labor, Room N-5637, 200 Constitution Ave., NW., Washington, DC 20210. Phone (202) 693-3677 (this is not a toll-free number), fax (202) 693-3584, or e-mail Javar.Janet@dol.gov.

SUPPLEMENTARY INFORMATION: I. Background: The Individual Training Account (ITA) experiment is designed to test different approaches to managing customer choice in the administration of Individual Training Accounts (ITAs). Established under the Workforce Investment Act (WIA) of 1998, ITAs are intended to empower U.S. Department of Labor (DOL) customers to choose the training services they need.

WIA allows state and local offices a great deal of flexibility in deciding how much guidance and financial support they will provide to ITA recipients. The ITA experiment tests three approaches that differ widely in both the resources made available to customers and the involvement of local counselors to guide customer choice. The three ITA approaches range from a highly structured model to a pure voucher model:

• In Approach 1, local counselors steer their customers to training that is expected to yield a high return (in the form of increased earnings) relative to the resources invested in training. Moreover, counselors can approve or disapprove customers' program selections and set the value of the ITA to fund approved selections.

• In Approach 2, customers receive a fixed ITA award. Local counselors then help customers select training that seems appropriate and feasible, given customers' skills and their fixed ITA awards and other financial resources they have available to pay for training.

• In Approach 3, customers are offered a fixed ITA award, but they are allowed to choose any state-approved training option and to formulate their program selections independently if they so desire.

Each of the local sites that participated in the study operated all three of these ITA approaches. Local customers that were determined eligible for an ITA were randomly assigned to one of the approaches.

The evaluation of the ITA experiment includes an analysis of the implementation and operation of the three ITA approaches, based on data collected during three rounds of visits to the six sites participating in the experiment. The evaluation also consists of an analysis of customer outcomes and the returns on the investment in training. This analysis will focus on the differences in customer outcomes, such as training choices, employment, and earnings, generated by the three ITA approaches.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: This is a notice to extend the collection period that is currently approved by OMB (1205-0446 expires October 31, 2006).

The follow-up survey will collect data items unavailable from administrative records. It will provide more detailed information on training and employment outcomes than UI wage records and more detailed information on household composition and other demographic characteristics. The follow-up survey will be the only source for data on: perceptions of and attitudes toward the services and levels of customer choice provided by each ITA approach, job search behavior after random assignment, and characteristics of post-training jobs.

Type of Review: Extension of a currently approved collection.

Agency: Employment and Training Administration.

Title: Evaluation of the Individual Training Account Experiment

OMB Number: 1205-0441.

Affected Public: Individuals of households.

Total Respondents: 3,840.

Estimated Total Burden Hours: 1,920.

Cite/reference | Total respondents | Frequency | Average time per response | Burden
ITA Follow-up survey | 3,840 | One time | 30 min | 1,920 hours.

Total Burden Cost (capital/startup): $0.

Total Burden Cost (operating/maintaining): $0.

Comments submitted in response to this comment request will be summarized and/or included in the request for Office of Management and Budget approval of the information collection request; they will also become a matter of public record.

Dated: July 19, 2006.
Maria K. Flynn,
Administrator, Office of Policy Development and Research.

[FR Doc. E6-11851 Filed 7-24-06; 8:45 am]

BILLING CODE 4510-30-P